DEPARTMENT OF THE INTERIOR

Minerals Management Service

30 CFR Part 250

RIN 1010-AC75

Oil and Gas and Sulphur Operations in the Outer Continental Shelf—Safety Measures and Procedures for Pipeline Modifications and Repairs

AGENCY: Minerals Management Service (MMS), Interior.

ACTION: Proposed rule; withdrawal.

SUMMARY: MMS withdraws a proposed rule that was published in the Federal Register on August 28, 2001 (66 FR 45236). The proposed rule required all lessees, lease operators, and pipeline right-of-way holders to submit in writing the measures they plan to take and the procedures they plan to follow to ensure the safety of offshore workers and to prevent pollution before beginning any operation that involves cutting into a pipeline or opening a pipeline at a flange. Issues raised during the comment period for the proposed rule led MMS to reevaluate its pipeline permitting procedures. MMS determined that a rewrite of its Subpart J pipeline regulations is a more appropriate course of action. Based on this determination, MMS is withdrawing the proposed rule.

DATES: The proposed rule is withdrawn as of February 21, 2003.

FOR FURTHER INFORMATION CONTACT: Carl W. Anderson, Operations Analysis Branch, at (703) 787-1608 or e-mail at carl.anderson@mms.gov.

SUPPLEMENTARY INFORMATION: MMS is authorized to issue and enforce rules to promote safe operations, environmental protection, and resource conservation on the Outer Continental Shelf (OCS). (The OCS Lands Act (43 U.S.C. 1331 et seq.) defines the OCS.) Under this authority, MMS regulates pipeline transportation of mineral production and rights-of-way for pipelines and associated facilities. MMS approves all OCS pipeline applications, regardless of whether a pipeline is built and operated under Department of the Interior (DOI) or Department of Transportation (DOT) regulatory requirements. MMS also has sole authority to grant rights-of-way for OCS pipelines.

We received comments from five respondents on the proposed rule. They were the Offshore Operators Committee, Duke Energy Gas Transmission, CMS Panhandle Pipeline Companies, Shell Exploration & Production Company, and Enron Transportation Services Company. They raised a number of questions that gave us reason to reconsider our existing pipeline regulations and internal permitting procedures. We reviewed our regulations regarding platform piping systems under 30 CFR part 250, subpart H—Oil and Gas Production Safety Systems; industry response in emergency repair situations; and the impacts that MMS permitting procedures for pipeline modifications and repairs have on production operations and transportation pipeline operations.

The comments we received on this rule have been helpful in calling attention to certain aspects of our pipeline regulatory program that need upgrading and redefining. Moreover, the review of our internal permitting procedures pointed out the need for increased clarification regarding our overlapping responsibilities with DOT for OCS pipelines. The respective responsibilities of DOI and DOT regarding OCS pipelines are defined in a 1996 Memorandum of Understanding between the two Departments.

Therefore, we concluded that rather than continue with this rulemaking, we should review and rewrite our regulations under 30 CFR part 250, subpart J—Pipelines and Pipeline Rights-of-Way. MMS will rewrite the new subpart J in close cooperation with DOT's Office of Pipeline Safety to ensure, to the extent possible, that the two agencies have compatible regulations governing OCS pipelines. MMS will subsequently publish the new subpart J as a proposed rule. The withdrawal of this rule will not diminish the safety of offshore operations.

Dated: February 6, 2003.
Rebecca W. Watson,
Assistant Secretary—Land and Minerals Management.

[FR Doc. 03-4149 Filed 2-20-03; 8:45 am]

BILLING CODE 4310-MR-P